DEPARTMENT OF ENERGY

National Energy Technology Laboratory

Notice of Intent To Issue a Financial Assistance Solicitation (PS)

AGENCY: National Energy Technology Laboratory (NETL), Department of Energy (DOE).

ACTION: Notice of Intent to Issue a Financial Assistance Solicitation (PS).

SUMMARY: Notice is hereby given of the intent to issue Financial Assistance Solicitation No. DE-PS26-01NT40868 entitled “Gas Storage Program Solicitation.” The general goal of this research and development effort is to support further development of the innovative gas storage concepts that are required to meet the needs of the natural gas industry and end-use customers of the U.S. through the year 2015. The Gas Storage Program's “Advanced Storage Concepts (ASC)” projects have been exploring alternatives to service the need for new storage development and expansion in close proximity to areas of growing residential natural gas use and existing and planned industrial and power generation facilities without conventional storage options.

DATES: The solicitation will be available on the DOE/NETL's Internet address at http://www.netl.doe.gov/business on or about March 16, 2001. Based on the information contained herein, prospective Applicants are encouraged to begin defining their requirements and potential teaming arrangements prior to release of the solicitation.

FOR FURTHER INFORMATION CONTACT: Kelly A. McDonald, Contract Specialist, MS I07, U.S. Department of Energy, National Energy Technology Laboratory, 3610 Collins Ferry Road, P.O. Box 880, Morgantown, WV 26507-0880, E-mail Address: kelly.mcdonald@netl.doe.gov, Telephone Number: (304) 285-4113.

SUPPLEMENTAL INFORMATION: It is anticipated that this action will consist of a single solicitation with three (3) multiple needs areas that specifically address: (1) Proof-of-concept studies or demonstrations aimed at establishing the potential for full-scale field deployment and commercialization of previously developed technologies such as Lined Rock Cavern, Refrigerated-Mined Rock Cavern, Gas Storage as Hydrates, or Gas Storage in Basalt (a CD-ROM publication titled “Advanced Gas Storage Concepts: Technologies for the Future,” which contains the final reports of the Lined Rock Cavern, Refrigerated-Mined Rock Cavern, and Gas Storage as Hydrates concepts, is available through the CD-ROM Ordering System at the NETL website http://www.netl.doe.gov/publications); (2) development of new ideas for innovative storage alternatives; or (3) development of technological innovations in salt brine disposal to overcome the dominant barrier to developing salt cavern storage in areas remote to ocean disposal. Proposed approaches are anticipated that will include teaming arrangements and can encompass any combination of theory, laboratory validation of concepts, field validation of concepts, proof-of-concept demonstration, or commercial technology demonstration. The overall goal of this solicitation shall be to work toward a demonstration of the storage concept at a commercially scalable size. It is anticipated that the work performed under this action will consist of three (3) phases similar to the following:

Phase I—Concept Definition and Research, Development and Testing (RD&T) Planning;

Phase II—Research, Development and Testing; and,

Phase III—Preliminary Engineering Design of the Storage Technology.

The maximum period of performance for all three (3) phases is estimated at forty-eight (48) months. The goal of this procurement is to encourage private sector firms to proceed with detailed engineering design and obtain private sector funding for the construction and operation of an advanced natural gas storage technology. It is recognized that each Applicant may propose varying scopes of effort for one or more of the three (3) phases, and consequently, an Applicant is not required to perform all Phase I activities if significant work on Phase I type activities has previously been completed. If the Applicant proposes to initially proceed to Phase II or III efforts, information must be included in their application which demonstrates the merit of the previous research and reference to the results. For successful Applicants proposing to Phase II or III, the cost of work performed by the Recipient to satisfy the Phase I or II requirements prior to the execution of the resulting agreement will not be considered when calculating cost-share. Due to the nature and objective of this solicitation, it is anticipated that a mixture of proposals will be accepted with staggered beginning dates, and it is therefore anticipated that any Applicant selected for award shall proceed on it's own schedule, independent of any other application. The schedule will be based on the best estimate of the time it will take the team to complete the three (3)-phase effort, address the objective of the advanced natural gas storage program, and meet the government's target date for completion of the Preliminary Engineering Design.

DOE anticipates multiple cooperative agreement awards under each area of interest resulting from this solicitation, and no fee or profit will be paid to a Recipient or Subrecipient under the awards. This particular program is covered by section 3001 and 3002 of the Energy Policy Act (EPAct), 42 U.S.C. 13542 for financial assistance awards. EPAct 3002 requires a cost-share commitment of at least twenty (20) percent from non-Federal sources for research and development projects and at least fifty (50) percent for demonstration and commercial projects. Depending on the phase and maturation stage of the agreement, cost-share expectations will range from 20 to 50 percent. The particular program is also covered by section 2306 of EPAct, 42 U.S.C. 13525 for financial assistance awards. In order for a company to be eligible for an award under this solicitation, the Applicant must be a United States-owned company. If the Applicant is not a United States-owned company, it must be incorporated or organized in a foreign country that affords treatment to United States-owned companies that is comparable to treatment the United States affords foreign-owned companies. This eligibility requirement also applies to all companies participating in any joint venture, “team” arrangement, or as a major subcontractor. The solicitation will contain as part of the application package the applicable EPAct representation form(s). At current planning levels, and subject to the availability of funds, DOE expects to provide up to approximately $4,000,000 to support work under this solicitation. Applications which include performance of Federal agencies and agents (i.e. Management and Operations (M&O) contractors and/or National Laboratories) as a subcontractor will be acceptable under this solicitation if the proposed use of any such entities is specifically authorized by the executive Federal agency managing the M&O or National Laboratory, and the work is not otherwise available from the private sector. Such work, if approved, would be accomplished through a direct transfer of funding from the NETL to the M&O contractor and/or National Laboratory. Even though participation of an M&O and/or National Laboratory may be appropriate, their participation cannot exceed fifty (50) percent of the Applicant's total estimated project cost.

Telephone requests, written requests, E-mail requests, or facsimile requests for a copy of the solicitation package will not be accepted and/or honored. Applications must be prepared and submitted in accordance with the instructions and forms contained in the solicitation. The actual solicitation document will allow for requests for explanation and/or interpretation.

Issued in Morgantown, WV, on February 20, 2001.
Randolph L. Kesling,
Director, Acquisition and Assistance Division.

[FR Doc. 01-5433 Filed 3-5-01; 8:45 am]

BILLING CODE 6450-01-P